ENVIRONMENTAL PROTECTION AGENCY

[EPA-HQ-ORD-2015-0635; FRL 10011-01-ORD]

Board of Scientific Counselors (BOSC) Chemical Safety for Sustainability and Health and Environmental Risk Assessment Subcommittee Meeting—June 2020; Correction

AGENCY: Environmental Protection Agency (EPA).

ACTION: Notice of public meeting; correction.

SUMMARY: The Environmental Protection Agency (EPA), Office of Research and Development (ORD), published a document in the Federal Register of June 2, 2020, giving notice of a meeting of the Board of Scientific Counselors (BOSC) Chemical Safety for Sustainability and Health and Environmental Risk Assessment (CSS-HERA) Subcommittee. The meeting has been postponed until June 24, 2020. Due to unforeseen administrative circumstances, EPA is announcing this meeting with less than 15 calendar days' notice.

FOR FURTHER INFORMATION CONTACT: The Designated Federal Officer (DFO) via phone/voice mail at: (202) 564-6518 or via email at: tracy.tom@epa.gov.

SUPPLEMENTARY INFORMATION:

Correction

In the Federal Register of June 2, 2020, in FR Doc. 2020-11816, on page 33,665, column 1 correct the “DATES” caption to read:

DATES: The videoconference meeting will be held on Wednesday, June 24, 2020, from 3:00 p.m. to 6:00 p.m. (EDT). Meeting times are subject to change. This meeting is open to the public. Those who wish to attend must register by June 23, 2020. Comments must be received by June 22, 2020 to be considered by the subcommittee. Requests for the draft agenda or making a presentation at the meeting will be accepted until June 22, 2020.

Dated: June 12, 2020.
Mary Ross,
Director, Office of Science Advisor, Policy, and Engagement.

[FR Doc. 2020-13169 Filed 6-17-20; 8:45 am]

BILLING CODE 6560-50-P